DEPARTMENT OF COMMERCE

International Trade Administration

Initiation of Antidumping and Countervailing Duty Administrative Reviews

AGENCY: Import Administration, International Trade Administration, Department of Commerce.

ACTION: Notice of initiation of antidumping and countervailing duty administrative reviews.

SUMMARY: The Department of Commerce has received requests to conduct administrative reviews of various antidumping and countervailing duty orders and findings with May anniversary dates. In accordance with the Department's regulations, we are initiating those administrative reviews.

EFFECTIVE DATE: June 30, 2005.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b) (2002), for administrative reviews of various antidumping and countervailing duty orders and findings with May anniversary dates.

Initiation of Reviews:

In accordance with 19 CFR 351.221(c)(1)(i), we are initiating administrative reviews of the following antidumping and countervailing duty orders and findings. We intend to issue the final results of these reviews not later than May 31, 2006.

| Period to be reviewed
Antidumping Duty Proceedings
Belgium:
Stainless Steel Plate in Coils, A-423-808 | 5/1/04-4/30/05
Ugine & ALZ Belgium
Canada:
Certain Softwood Lumber, A-122-838 | 5/1/04-4/30/05
465016 BC Ltd.
582912 BC Ltd. (dba Paragon Wood Products Lumby)
Abitibi-Consolidated Company of Canada
Abitibi-Consolidated Inc.
Abitibi-LP Engineered Wood Inc.
AJ Forest Products Ltd.
Alberta Spruce Industries Ltd.
Alexandre Cote Ltee.
Allmac Lumber Sales Ltd.
Allmar International
Alpa Lumber Mills Inc.
Alpine Forest Trading Inc.
American Bayridge Corporation
Andersen Pacific Forest Ltd.
Anderson Pacific Forest Products
Apex Forest Products, Inc.
Apollo Forest Products Ltd.
Aquila Cedar Products Ltd.
Arbec Forest Products Inc.
Arbutus Manufacturing Limited
Armand Duhamel & Fils Inc.
Aspen Planers Ltd.
Atco Lumber Ltd.
Atikokan Forest Products Ltd.
Atlantic Warehousing Ltd.
Atlas Lumber Alberta Ltd.
AWL Forest Products
B&L Forest Products Ltd.
B.B. Pallets Inc.
Bakerview Forest Products Inc.
Bardeaux et Cedres St-Honore Inc.
Barrett Lumber Company Limited
Barrette-Chapais Ltee
Barry Maedel Woods & Timber
Bathurst Lumber
Bathurst Lumber, Division of UPM Kymmene Miramichi
Beaubois Coaticook Inc.
Bel Air Forest Products Inc.
Bel Air Lumber Mills, Inc.
Blackville Lumber Inc.
Blackville Lumber Inc., Division of UPM Miramichi
Blanchette & Blanchette Inc.
Bois Bonsai
Bois Cobodex (1995) Inc.
Bois De L'est Fb Inc.
Bois D'oeuvre Cedrico Inc.
Bois Fontaine Inc.
Bois Granval G.d.s. Inc.
Bois Kheops Inc.
Bois Marsoui G.d.s. Inc.
Bois Neos Inc.
Bois Nor Que Wood Inc.
Bois Omega Ltee
Boisaco Inc.
Bonnyman & Byers Limited
Boscus Canada Inc.
Boucher Bros. Lumber Ltd.
Bowater Canadian Forest Products Incorporated
Bowater Incorporated
Bridgeside Forest Industries Ltd. (Bridgeside Higa Forest Industries, Ltd.)
Brink Forest Products Ltd.
Brittania Lumber Company Limited
Brown & Rutherford Co. Ltd.
Brunswick Valley Lumber Inc.
Buchanan Distribution Inc.
Buchanan Forest Products Ltd.
Buchanan Lumber
Buchanan Lumber Sales Inc.
Buchanan Northern Hardwoods, Inc.
Busque & Laflamme Inc.
Byrnexco Inc.
C & C Lath Mill Ltd.
C. Ernest Harrison & Sons Ltd.
C.E. Harrison & Sons Limited
Caledonia Forest Products Ltd.
Cambie Cedar Products Ltd.
Canadian Forest Products Ltd.
Canadian Lumber Company Ltd.
Canadian Overseas Log & Lumber, Ltd.
Canfor Corporation
Canfor Uneeda / Uneeda Wood Products
Canwel Building Materials Ltd.
Canyon Lumber Company Ltd.
Cardinal Lumber Manufacturing & Sales Inc.
Careau Bois Inc.
Carrier & Begin Inc.
Carrier Forest Products
Carrier Lumber Ltd.
Carson Lake Lumber Limited
Cascadia Forest Products Ltd.
Cattermole Timber
CDS Lumber Products Ltd.
Cedartone Specialties Ltd.
Cedrico Lumber Inc.
Central Cedar, Ltd.
Centurion Lumber Manufacturing (1983) Ltd.
Chaleur Sawmills Associates
Chasyn Wood Technologies Inc.
Cheslatta Forest Products Ltd.
Chipman Sawmill Inc.
Choicewood Products Inc.
City Lumber Sales & Services Limited
Clair Industrial Development Corp. Ltd.
Clermond Hamel Ltee.
Clotures Rustiques L.g. Inc.
Coast Clear Wood Ltd.
Colonial Fence Mfg. Ltd.
Comeau Lumber Limited
Commonwealth Plywood Co. Ltd.
Cooper Creek Cedar Ltd.
Cottles Island Lumber Co. Ltd.
Cowichan Lumber Ltd.
Crystal Forest Industries Ltd.
Cushman Lumber Company Ltd.
Daaquam Lumber Inc. (aka Bois Daaquam Inc.)
Dakeryn Industries Ltd.
Davron Forest Products Ltd.
Deep Cove Forest Products
Delco Forest Products Ltd.
Delta Cedar Products
Deniso Lebel Inc.
Devon Lumber Co. Ltd.
Doman Forest Products Limited
Doman Industries Limited
Doman-western Lumber Ltd.
Domexport, Inc.
Domino Forest Products Inc.
Domtar Inc.
Downie Timber Ltd.
Dubreuil Forest Products Limited
Dunkley Lumber Ltd.
E. Tremblay et Fils Ltee
Eacan Timber Canada Ltd.
Eacan Timber Ltd.
Eacan Timber Usa Ltd.
East Fraser Fiber Co., Ltd.
Eastwood Forest Products Inc.
Ed Bobocel Lumber 1993 Ltd.
Edwin Blaikie Lumber Ltd.
Elmira Wood Products Limited
Elmsdale Lumber Co., Ltd.
ER Probyn Export Ltd.
Errington Cedar Products Ltd.
Excel Forest Products
F W Taylor Lumber Company
F.L. Bodogh Lumber Co. Ltd.
Falcon Lumber Limited
Faulkener Wood Specialties, Ltd.
Fawcett Quality Lumber Products
Federated Co-operatives Limited
Fenclo Ltee
Finmac Lumber Limited
Fletcher Lumber
Fontaine Inc. (dba J. A. Fontaine et Fils Incorporee)
Forest Products Northwest Inc.
Forex Log & Lumber, Ltd.
Fort St. James Forest Products Ltd.
Forwest Wood Specialties Inc.
Forwood Forest Products Inc.
FPS Canada Inc.
Fraser Pacific Forest Products Inc.
Fraser Pacific Lumber Company
Fraser Papers Inc.
Fraser Plaster Rock
Fraser Pulp Chips Ltd.
Fraser Timber Limited
Fraserview Cedar Products Ltd.
Fraserwood Industries Ltd.
G.A. Grier (1991) Inc.
G.A.G. Sales, Inc.
G.D.S. Valoribois Inc.
G.L. Sawmill Ltd.
Galloway Lumber Co., Ltd.
Gerard Crete & Fils Inc.
Gestion Natanis Inc.
Gestofor, Inc.
Gilbert Smith Forest Products Ltd.
Goldwood Industries Ltd.
Goodfellow Inc.
Gordon Buchanan Enterprises Ltd.
Gorman Bros. Lumber Ltd.
Great Lakes MSR Lumber Ltd.
Great West Timber Limited
Greenwood Forest Products (1983) Ltd.
H.A. Fawcett & Son Limited
H.J. Crabbe & Sons Ltd.
H.S. Bartram (1984) Ltd.
Haida Forest Products Ltd.
Hainesville Sawmill Ltd.
Halo Sawmill Limited Partnership
Halo Sawmills
Hanson's Sawmill
Harry Freeman & Son Limited
Hefler Forest Products Ltd.
Herridge Trucking & Sawmilling Ltd.
Hilmoe Forest Products, Ltd.
Holdright Lumber Products Ltd.
Howe Sound Forest Products (2005) Ltd.
Hudson Mitchell & Sons Lumber Inc.
Hughes Lumber Specialties Inc.
Hy Mark Wood Products Inc.
Hyak Specialty Wood Products Ltd.
Industries G.D.S. Inc.
Industries P.F. Inc.
Industries Perron Inc.
International Forest Products Ltd. (Interfor)
International Forest Products, Ltd. (Interfor)
Interpac Log & Lumber Ltd.
Ivor Forest Products Ltd.
J&G Log and Lumber Ltd.
J&G Log Works Ltd.
J.A. Turner & Sons (1987) Limited
J.D. Irving, Limited
J.H. Huscroft Ltd.
Jackpine Engineered Wood Products
Jackpine Forest Products Ltd.
Jackpine Group of Companies
Jamestown Lumber Company Ltd.
Jasco Forest Products Ltd.
Jeffrey Hanson
John W. Jamer Ltd.
JR Remanufacturing
Kalesnikoff Lumber Co. Ltd.
Kebois Limited (dba Kebois Limitee)
Kebois Ltee
Kenora Forest Products Ltd.
Kenwood Lumber Ltd.
Kispiox Forest Products Ltd.
Kitwanga Lumber Company
Kootenay Innovative Wood
KP Wood Ltd.
Kruger, Inc.
Krystal Klear Marketing Inc.
L&M Lumber Ltd.
La Crete Sawmills Ltd.
Lakeland Mills Ltd.
Lamco Forest Products
Landmark Truss & Lumber Inc.
Langevin Forest Products, Inc.
Lattes Waska Laths Inc.
Lawsons Lumber Company Ltd.
Lecours Lumber Co. Limited
Ledwidge Lumber Co., Ltd.
Leggett & Platt (B.C.) Ltd.
Leggett & Platt Canada Co.
Leggett & Platt Ltd.
Leggett & Platt, Inc.
Leggettwood
Leonard Ellen Canada (1991) Inc.
Les Bois D'oeuvre Beaudoin & Gauthier
Les Bois Indifor Lumber Inc.
Les Bois K-7 Lumber Inc.
Les Bois Lac Frontiere Inc.
Les Bois S&P Grondin Inc. (aka Les Bois Grondin Inc.)
Les Chantiers Chibougamau Ltee
Les Placements Jean-paul Fontaine Ltee
Les Produits Forestiers D.G. Ltee
Les Produits Forestiers Dube Inc. (Dube Forest Products)
Les Produits Forestiers Fbm Inc.
Les Produits Forestiers Miradas Inc.
Les Scieries du Lac St-jean Inc.
Les Scieries J. Lavoie Inc.
Leslie Forest Products Ltd.
Ligni Bel Ltd.
Lignum Ltd.
Lindsay Lumber Ltd.
Liskeard Lumber Limited
Long Lake Forest Products Inc.
Long Lake Forest Products Inc. (Nakina Division)
Lousiana Pacific Corporation
Lulumco Inc.
Lumberplus Industries Inc.
Lyle Forest Products Ltd.
M & G Higgins Lumber Ltd.
M.L. Wilkins & Son Ltd.
Mactara Limited
Maher Forest Products, Ltd.
Maibec Industries Inc.
Mainland Sawmill
Mainland Sawmill (Division of Terminal Forest Products)
Manitou Forest Products Ltd.
Manning Diversified Forest Products Ltd.
Maple Creek Saw Mills Inc.
Marcel Lauzon Inc.
Marine Way Industries Inc.
Marwood Ltd.
Materiaux Blanchet Inc.
Max Meilleur et Fils Ltee.
Mckenzie Forest Products Inc.
MDFP Sales
MF Bernard Inc.
Mid America Lumber
Mid Valley Lumber Specialties Ltd.
Midway Lumber Mills Ltd.
Mill & Timber Products Ltd.
Millar Western Forest Products Ltd.
Millco Wood Products Ltd.
Miramichi Lumber Products
Mirax Lumber Products Ltd.
Mobilier Rustique (Beauce) Inc.
Monterra Lumber Mills Limited
Mountain View Specialties
Mountain View Specialties Products Inc.
N.F. Douglas Lumber Ltd.
Nechako Lumber Co., Ltd.
Newcastle Lumber Co. Inc.
Nexfor Inc.
Nicholson and Cates Limited
Nickel Lake Lumber
Noble Custom Cut Ltd.
Norbord Industries Inc.
Norsask Forest Products Inc.
North American Forest Products Ltd.
North American Hardwoods Ltd.
North Enderby Distribution Ltd.
North Enderby Timber Ltd.
North Mitchell Lumber Company Ltd.
North of 50
North Star Wholesale Lumber
North Star Wholesale Lumber Ltd.
Northern Sawmills, Inc.
Northland Forest Products Ltd.
Northwest Specialty Lumber
Olav Haavaldsrud Timber Company Limited
Olympic Industries Inc.
Optibois Inc.
Oregon Canadian Forest Products
P. Proulx Forest Products Inc.
Pacific Coast Timber Inc.
Pacific Lumber Company
Pacific Lumber Remanufacturing Inc.
Pacific Specialty Wood Products Ltd. (Clearwood Industries Ltd.)
Pallan Timber Products (2000) Ltd.
Pallan Timber Products Ltd.
Palliser Lumber Sales Ltd.
Parallel Wood Products, Ltd.
Pat Power Forest Products Corporation
Patrick Lumber Company
Paul Vallee Inc.
Peak Forest Products, Ltd.
Pharlap Forest Products Inc.
Phoenix Forest Products Inc.
Pope & Talbot Inc.
Pope & Talbot Ltd.
Porcupine Wood Products Ltd.
Port Moody Timber Ltd.
Portbec Forest Products Ltd.
Power Wood Corp.
Precibois Inc.
Preparabois Inc.
Pro Lumber Inc.
Produits Forest La Tuque Inc.
Produits Forestiers Berscifor Inc.
Produits Forestiers Petit Paris Inc.
Produits Forestiers Saguenay Inc.
Promobois G.d.s. Inc.
Prudential Forest Products Limited
Quadra Wood Products Ltd.
R. Fryer Forest Products Limited
Raintree Lumber Specialties Ltd.
Ratcliff Forest Products Inc.
Redtree Cedar Products Ltd.
Redwood Value Added Products Inc.
Rembos Inc.
Rene Bernard Inc.
Ridge Cedar Ltd.
Ridgetimber Trading Inc.
Ridgewood Forest Products Limited
Rielly Industrial Lumber Inc.
Riverside Forest Products Ltd.
Riverside Marketing and Sales
Rojac Cedar Products Inc.
Rojac Enterprises Inc.
Roland Boulanger & Cie Ltee
Russell White Lumber Limited
S&R Sawmills Ltd.
Saran Cedar
Sauder Industries Limited
Sauder Industries Ltd.—Cowichan Division
Sawarne Lumber Co. Ltd.
Scierie A&M St-Pierre Inc.
Scierie Adrien Arseneault Ltee.
Scierie Alexandre Lemay & Fils Inc.
Scierie Chaleur
Scierie Dion et Fils Inc.
Scierie Duhamel Sawmill Inc.
Scierie Gallichan
Scierie Gauthier Ltee
Scierie La Patrie, Inc.
Scierie Landrienne, Inc.
Scierie Lapointe & Roy Ltee
Scierie Leduc, Division of Stadaconia Inc.
Scierie Norbois Inc.
Scierie Nord-Sud (North-South Sawmill Inc.)
Scierie St-Elzear Inc.
Scierie Tech
Scierie West Brome Inc.
Scieries du Lac St. Jean Inc.
Seed Timber Co. Ltd.
Selkirk Specialty Wood Ltd.
Sexton Lumber Co. Limited
Seycove Forest Products Limited
Seymour Creek Cedar Products Ltd.
Shawood Lumber Inc.
Sigurdson Brothers Logging Co. Ltd.
Silvermere Forest Products Inc.
Sinclar Enterprises Ltd.
Skagit Industries
Skana Forest Products Ltd.
Slocan Forest Products Ltd.
Societe En Commandite Scierie Opticiwan
Solid Wood Products Inc.
South Beach Trading Inc.
South-East Forest Products Ltd.
Spray Lake Sawmills Ltd.
Spruce Forest Products Ltd.
Spruce Products
Spruceland Millworks (Alberta)
Spruceland Millworks Inc.
St. Anthony Lathing Ltd.
Stag Timber
Stuart Lake Lumber Co. Ltd.
Stuart Lake Marketing Co. Ltd.
Sunbury Cedar Sales
Suncoast Lumber & Milling
Sundance Forest Industries Ltd.
Swiftwood Forest Products Limited
Sylvanex Lumber Products Inc.
T.F. Specialty Sawmill
T.P. Downey & Sons Ltd.
Tall Tree Lumber Co.
Taylor Lumber Company Ltd.
Teal Cedar Products Ltd.
Teal-Jones Group
Teeda Corp
Tembec Inc.
Tembec Industries Inc.
Terminal Forest Products (Terminal Sawmill Division)
Terminal Forest Products Ltd.
The Pas Lumber Co. Ltd.
The Teal Jones Group—Stag Timber Division
Timber Ridge Forest Products Inc.
Timberwest Forest Corp.
Timberworld Forest Products Inc.
T'loh Forest Products Limited Partnership
Tolko Industries Ltd.
Tolko Marketing & Sales
Top Quality Lumber Ltd.
Trans-pacific Trading Ltd.
Treeline Wood Products Ltd.
Triad Forest Products, Ltd.
Twin Rivers Cedar Products Ltd.
Tyee Timber Products Ltd.
Uniforet Inc.
Uniforet Scierie-Pate Inc.
Uphill Wood Supply Inc.
UPM Miramichi
UPM-Kymmene Miramichi Inc.
Usine Sartigan Inc.
Vancouver Specialty Cedar Products Ltd.
Vanderhoof Specialty Wood Products Inc.
Vandermeer Forest Products (Canada) Ltd.
Vanderwell Contractors (1971) Ltd.
Vanport Canada, Co.
Velcan Forest Products Inc.
Vernon Kiln & Millwork Ltd.
Visscher Lumber Inc.
W.I. Woodtone Industries Inc.
Wakefield Cedar Products Ltd.
Welco Lumber Corporation
Weldwood of Canada Ltd.
Wentworth Lumber Ltd.
West Bay Forest Products and Manufacturing Ltd.
West Chilcotin Forest Products Ltd.
West Fraser Mills Ltd.
Western Forest Products Limited
Western Forest Products, Inc.
Westex Timber Mills., Ltd.
Westmark Products Ltd.
Weston Forest Corp.
Westshore Specialties Ltd.
West-wood Industries Ltd.
Weyerhaeuser Company
Weyerhaeuser Company Limited
Weyerhaeuser Saskatchewan Limited
WFP Forest Products Limited
WFP Lumber Sales Limited
WFP Western Lumber Ltd.
Wilfrid Paquet & Fils Ltee.
Williams Brothers Ltd.
Winnipeg Forest Products, Inc.
Winton Global Ltd.
Woodko Enterprises, Ltd.
Woodline Forest Products Ltd.
Woodtone Industries Inc.
Wynndel Box & Lumber Co., Ltd.
Republic of Korea: Certain Polyester Staple Fiber, A-580-839 | 5/1/04-4/30/05
Huvis Corporation
Saehan Industries, Inc.
Daehan Synthetic Company, Ltd. (division of Taekwang Industrial Co., Ltd.)
Dongwoo Industry Company
Taiwan: Polyester Staple Fiber, A-583-833 | 5/1/04-4/30/05
Far Eastern Textile Ltd.
Taiwan: Stainless Steel Plate in Coils, A-583-830 | 5/1/04-4/30/05
Ta Chen Stainless Pipe Co., Ltd.
Yieh United Steel Corporation
China Steel Corporation
Tang Eng Iron Works
PFP Taiwan Co., Ltd.
Yieh Loong Enterprise Co., Ltd.(aka Chung Hung Steel Co., Ltd.)
Yieh Trading Co.
Goang Jau Shing Enterprise Co., Ltd.
Yieh Mau Corporation
Chien Shing Stainless Co., Ltd.
East Tack Enterprise Co., Ltd.
Shing Shong Ta Metal Ind. Co., Ltd.
Sinkang Industries, Ltd.
Chang Mien Industries Co., Ltd.
Chain Chin Industrial Co., Ltd.
Emerdex Stainless Steel Flat Roll Products, Inc., Emerdex Stainless Steel, Inc., Emerdex Group
The People's Republic of China: Pure Magnesium, ¹ A-570-832 | 5/1/04-4/30/05
Tianjin Magnesium International, Co.
Venezuela: Silicomanganese, A-307-820 | 5/1/04-4/30/05
Hornos Electricos de Venezuela
| Period/class or kind
Antifriction Bearings Proceedings and Firms
France: A-427-801 | 5/1/04-4/30/05
SKF France S.A. and Sarma | Ball and
SNR Roulements | Spherical Ball
Germany: A-428-801 | 5/1/04-4/30/05
Gabreuder Reinfort GmbH & Co., KG | Ball
INA-Schaeffler KG/FAG Kugelfischer AG | Ball
SKF GmbH | Ball
Italy: A-475-801 | 5/1/04-4/30/05
FAG Italia S.p.A. | Ball
SKF Industrie S.p.A. | Ball
Japan: A-588-804 | 5/1/04-4/30/05
Asahi Seiko Co., Ltd. | Ball
Koyo Seiko Co., Ltd | Ball
Nachi-Fujikoshi Corporation | Ball
Nippon Pillow Block Company, Ltd. | Ball
NSK Ltd. | Ball
NTN Corporation | Ball
Sapporo Precision, Inc. | Ball
Singapore: A-599-801 | 5/1/04-4/30/05
NMB/Pelmec | Ball
U.K.: A-412-801 | 5/1/04-4/30/05
NSK Bearings Europe | Ball
The Barden Corporation (U.K.), Ltd. | Ball
Countervailing Duty Proceedings
Canada: Certain Softwood Lumber, C-122-839 | 4/1/04-3/31/05
Suspension Agreements
None.
¹ If one of the named companies does not qualify for a separate rate, all other exporters of pure magnesium from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: June 28, 2005.
Holly A. Kuga,
Senior Office Director, AD/CVD Operations, Office 4 for Import Administration.

[FR Doc. 05-13095 Filed 6-29-05; 8:45 am]

BILLING CODE 3510-DS-P